DEPARTMENT OF THE INTERIOR

Fish and Wildlife Service

Endangered and Threatened Wildlife and Plants; Initiation of a 5-Year Review of Kendall Warm Springs dace, Dudley Bluffs bladderpod, and Dudley Bluffs twinpod

AGENCY: Fish and Wildlife Service, Interior.

ACTION: Notice.

SUMMARY: The U.S. Fish and Wildlife Service (Service) announces a 5-year review of Kendall Warm Springs dace (Rhinichthys osculus thermalis), Dudley Bluffs bladderpod (Lesquerella congesta), and Dudley Bluffs twinpod (Physaria obcordata) under section 4(c)(2) of the Endangered Species Act of 1973, as amended (Act). The purpose of reviews conducted under section 4(c)(2) of the Act is to ensure that the classification of species as threatened or endangered on the List of Endangered and Threatened Wildlife and Plants is accurate. The 5-year review is an assessment of the best scientific and commercial data available at the time of the review.

DATES: To allow us adequate time to conduct this review, we must receive your information no later than November 20, 2006. However, we will continue to accept new information about any listed species at any time.

ADDRESSES: For Kendall Warm Springs dace—submit information to the Wyoming Field Office, U.S. Fish and Wildlife Service, Attention: 5-year Review, 5353 Yellowstone Road, Suite 308A, Cheyenne, Wyoming 82009. For Dudley Bluffs bladderpod and Dudley Bluffs twinpod—submit information to the Western Colorado Field Office, U.S. Fish and Wildlife Service, Attention: 5-year Review, 764 Horizon Drive, Building B, Grand Junction, Colorado 81506-3946. Information received in response to this notice and review, as well as other documentation in our files, will be available for public inspection, by appointment, during normal business hours, at the above addresses.

FOR FURTHER INFORMATION CONTACT: For Kendall Warm Springs dace—contact Brian Kelly, Wyoming Field Supervisor, at the above address, or telephone 307-772-2374. For Dudley Bluffs bladderpod and Dudley Bluffs twinpod—contact Al Pfister, Western Colorado Project Leader, at the above address, or telephone 970-243-2778.

SUPPLEMENTARY INFORMATION:

Why Is a 5-Year Review Being Conducted?

Section 4(c)(2)(A) of the Act (16 U.S.C. 1531 et seq.) requires that we conduct a review of listed species at least once every 5 years. We are then, under section 4(c)(2)(B) and the provisions of subsections (a) and (b) of section 4, to determine, on the basis of such a review, whether or not any species should be removed from the List of Endangered and Threatened Wildlife and Plants (delisted), or reclassified from endangered to threatened (downlisted), or reclassified from threatened to endangered (uplisted). The 5-year review is an assessment of the best scientific and commercial data available at the time of the review. Therefore, we are requesting submission of any new information (best scientific and commercial data) on the following species since their original listings as threatened (Dudley Bluffs bladderpod and Dudley Bluffs twinpod (55 FR 4152, February 6, 1990)) and endangered (Kendall Warm Springs dace (35 FR 16047, October 13, 1970; 39 FR 1175, January 4, 1974)). If the present classification of any of these species is not consistent with the best scientific and commercial information available, the Service will recommend whether or not a change is warranted in the Federal classification of the species. Any change in Federal classification would require a separate rule-making process.

Our regulations at 50 CFR 424.21 require that we publish a notice in the Federal Register announcing those species currently under active review. This notice announces our review of the Kendall Warm Springs dace, Dudley Bluffs bladderpod, and Dudley Bluffs twinpod.

What Information Is Considered in the Review?

A 5-year review considers all new information available at the time of the review. These reviews will consider the best scientific and commercial data that have become available since the current listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of Kendall Warm Springs dace, Dudley Bluffs bladderpod, and Dudley Bluffs twinpod. See “What information is considered in the review?” heading for specific criteria. Information submitted should be supported by documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; and recent information regarding conservation measures that have been implemented to benefit the species. Additionally, we specifically request information regarding the current distribution of populations and evaluation of threats faced by the species in relation to the five listing factors (as defined in section 4(a)(1) of the Act) and each species listed status as judged against the definition of threatened or endangered. Finally, we solicit recommendations pertaining to the development of or potential updates to recovery plans and additional actions or studies that would benefit these species in the future.

Our practice is to make comments, including names and home addresses of respondents, available for public review. Individual respondents may request that we withhold their home addresses from the supporting record, which we will honor to the extent allowable by law. However, we will not consider anonymous comments. We will make all submissions from organizations or businesses, and from individuals identifying themselves as representatives or officials of organizations or businesses, available for public inspection in their entirety.

How Are These Species Currently Listed?

The List of Endangered and Threatened Wildlife and Plants (List) is found in 50 CFR 17.11 (wildlife) and 17.12 (plants). Amendments to the List through final rules are published in the Federal Register. The List also is available on our Internet site at http://endangered.fws.gov/wildlife.html#Species. In Table 1 below, we provide a summary of the listing information for the species under active review.

Table 1.—Summary of Listing Information for Kendall Warm Springs dace, Dudley Bluffs bladderpod, and Dudley Bluffs twinpod
Species: Common name | Species: Scientific name | Historic range | Where endangered or threatened | Status | When listed | Critical habitat | Special rules
* * * * * * *
Plants
Twinpod, Dudley Bluffs | Physaria obcordata | U.S.A. (CO) | Entire | T | 374 | NA | NA
Dudley Bluffs bladderpod | Lesquerella congesta | U.S.A. (CO) | Entire | T | 374 | NA | NA
* * * * * * *
Fish
Dace, Kendall Warm Springs | Rhinichthys osculus thermalis | U.S.A. (WY) | Entire | E | 2 | NA | NA
* * * * * * *

Definitions Related to This Notice

The following definitions are provided to assist those persons who contemplate submitting information regarding the species being reviewed—(A) Species includes any species or subspecies of fish, wildlife, or plant, and any distinct population segment of any species of vertebrate, which interbreeds when mature; (B) Endangered means any species that is in danger of extinction throughout all or a significant portion of its range; (C) Threatened means any species that is likely to become an endangered species within the foreseeable future throughout all or a significant portion of its range.

How Do We Determine Whether a Species Is Endangered or Threatened?

Section 4(a)(1) of the Act establishes that we determine whether a species is endangered or threatened based on one or more of the five following factors—(A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of This Review?

If we find that there is new information concerning Kendall Warm Springs dace, Dudley Bluffs bladderpod, and Dudley Bluffs twinpod indicating a change in classification may be warranted, we may propose a new rule that could do one of the following—(a) reclassify the species from endangered to threatened (downlist); (b) reclassify the species from threatened to endangered (uplist); or (c) remove the species from the List. If we determine that a change in classification is not warranted, then these species will remain on the List under their current status.

Authority

This document is published under the authority of the Endangered Species Act of 1973, as amended (16 U.S.C. 1531 et seq.).

Dated: August 15, 2006.
James J. Slack,
Regional Director, Denver, Colorado.

[FR Doc. 06-7924 Filed 9-19-06; 8:45 am]

BILLING CODE 4310-55-P